ENVIRONMENTAL PROTECTION AGENCY

[FRL-8732-1]

Meeting of the National Drinking Water Advisory Council—Notice of Public Meeting

AGENCY: Environmental Protection Agency.

ACTION: Notice.

SUMMARY: In accordance with section 10(a)(2) of Public Law 92-423, “The Federal Advisory Committee Act,” notice is hereby given of the forthcoming conference call meeting of the National Drinking Water Advisory Council (Council), established under the Safe Drinking Water Act, as amended (42 U.S.C. 300f et seq.). The Council will discuss EPA's proposed rule describing Federal Requirements under the Underground Injection Control (UIC) Program for Carbon Dioxide (CO2) Geologic Sequestration (GS) Wells.

DATES: The Council meeting will be held via Webcast on Thursday, November 6, 2008, from 10 a.m. to 12:30 p.m., Eastern Standard Time. To register for the Web cast and obtain additional information including the call in number, attendees should visit the following site: http://gswebinar.­cadmusweb.com.

FOR FURTHER INFORMATION CONTACT: Members of the public who would like to present an oral statement or submit a written statement should contact Veronica Blette, by e-mail at: blette.veronica@epa.gov, by phone, 202-564-4094, or by regular mail at the U.S. Environmental Protection Agency, Office of Ground Water and Drinking Water (MC 4601M), 1200 Pennsylvania Avenue, NW., Washington, DC 20460.

SUPPLEMENTARY INFORMATION: The Council encourages the public's input and will allocate 30 minutes for this purpose during the latter part of the call. To ensure adequate time for public involvement, oral statements will be limited to five minutes, and it is preferred that only one person present the statement on behalf of a group or organization. Any person who wishes to file a written statement can do so before or after a Council meeting. Written statements received prior to the meeting will be distributed to all members of the Council. Any statements received after the meeting will become part of the permanent meeting file and will be forwarded to the Council members for their information. Notes and comments will also be submitted to the proposed rule docket at http://www.regulations.gov (docket i.d.: EPA-HQ-OW-2008-0390). Any person needing special accommodations at this meeting should contact the Designated Federal Officer, at the number or e-mail listed under the FOR FURTHER INFORMATION CONTACT section, at least five business days before the meeting so that the appropriate arrangements can be made.

Dated: October 15, 2008.
Cynthia C. Dougherty,
Director, Office of Ground Water and Drinking Water.

[FR Doc. E8-25017 Filed 10-20-08; 8:45 am]

BILLING CODE 6560-50-P